DEPARTMENT OF COMMERCE

National Oceanic and Atmospheric Administration

[RTID 0648-XC540]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a one-day in person meeting of its Spiny Lobster Advisory Panel (AP).

DATES: The meeting will take place Wednesday, December 7, 2022, from 9 a.m. to 4 p.m., EST.

ADDRESSES: The meeting will be held at the Gulf Council Office. Registration information for listening in will be available on the Council's website by visiting www.gulfcouncil.org and clicking on the Meetings Tab and selecting Advisory Panel meetings, then CMP AP meeting.

Council address: Gulf of Mexico Fishery Management Council, 4107 W Spruce Street, Suite 200, Tampa, FL 33607; telephone: (813) 348-1630.

FOR FURTHER INFORMATION CONTACT: Dr. Natasha Mendez-Ferrer, Fishery Biologist, Gulf of Mexico Fishery Management Council; Natasha.mendez@gulfcouncil.org; telephone: (813) 348-1630.

SUPPLEMENTARY INFORMATION:

Wednesday, December 7, 2022; 9 a.m.-4 p.m., EST

The meeting will begin with Introductions of Members, Election of Chair and Vice Chair, Adoption of Agenda, Approval of Minutes of Joint GMFMC and SAFMC Spiny Lobster APs' November 13, 2019 Meeting and Joint Coral, Shrimp, and Spiny Lobster APs' September 12, 2022 Meeting; and Scope of Work.

The APs will receive a presentation on the Florida Keys National Marine Sanctuary (FKNMS) Expansion Proposal. Background materials include the FKNMS Proposed Rule and Interactive Map and Council Comments to the Draft Environment Impact Statement (DEIS). The AP can provide recommendations.

The AP will hold a discussion on Capping the Spiny Lobster Recreational Permit and on Hurricane Ian Impacts to Spiny Lobster Fishery.

The AP will receive Public Comment and discuss any Other Business items.

—Meeting Adjourns

The meeting will be in-person. You may register to listen in to the webinar by visiting www.gulfcouncil.org and clicking on the Advisory Panel meeting on the calendar. The Agenda is subject to change, and the latest version along with other meeting materials will be posted on www.gulfcouncil.org as they become available.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take-action to address the emergency.

Special Accommodations

The meeting is physically accessible to people with disabilities. Requests for sign language interpretation or other auxiliary aid or accommodations should be directed to Kathy Pereira, kathy.pereira@gulfcouncil.org, at least 5 days prior to the meeting date.

Authority: 16 U.S.C. 1801 et seq.

Dated: November 14, 2022.
Diane M. DeJames-Daly,
Acting Deputy Director, Office of Sustainable Fisheries, National Marine Fisheries Service.

[FR Doc. 2022-25060 Filed 11-16-22; 8:45 am]

BILLING CODE 3510-22-P